DEPARTMENT OF ENERGY

Federal Energy Regulatory Commission

[Docket No. ER00-980-007, et al.]

Bangor Hydro-Electric Company, et al.; Electric Rate and Corporate Filings

June 18, 2003.

The following filings have been made with the Commission. The filings are listed in ascending order within each docket classification.

1. Bangor Hydro-Electric Company

[Docket No. ER00-980-007]

Take notice that on June 13, 2003, Bangor-Hydro Electric Company (Bangor Hydro) pursuant to Section 2.11 of the Settlement Agreement filed on November 1, 2000, in Docket No. ER00-980-000, and accepted and modified by the Federal Energy Regulatory Commission on February 26, 2001, submitted an informational filing showing the implementation of Bangor Hydro's open access transmission tariff formula rate for the charges that became effective on June 1, 2003.

Bangor Hydro states that copies of this filing were sent to Bangor Hydro's open access transmission tariff customers, the Commission Trial Staff, the Maine Public Utilities Commission, and the Maine Public Advocate.

Comment Date: July 7, 2003.

2. Idaho Power Company

[Docket No. ER03-953-000]

Take notice that on June 16, 2003, Idaho Power Company (Idaho Power) tendered for filing with the Federal Energy Regulatory Commission seven agreements or amendments to agreements between Idaho Power and PacifiCorp, Bonneville Power Administration, Washington Water Power Company, Utah Associated Municipal Power Systems, Avista Corporation and Sierra Pacific Power Company. Idaho Power seeks effective dates commensurate with the dates of the letter agreements and amendments.

Comment Date: July 7, 2003.

3. Idaho Power Company

[Docket No. ER03-954-000]

Take notice that on June 16, 2003, Idaho Power Company (Idaho Power) tendered for filing with the Federal Energy Regulatory Commission six letter agreements between Idaho Power and Bonneville Power Administration; Montana Power Company, PacificCorp, Pacific Gas and Electric Company and Oregon Trail Electric Consumers Cooperative, Inc. Idaho Power seeks effective dates commensurate with the dates set forth in the letter agreements.

Comment Date: July 7, 2003.

4. NRG Marketing Services LLC

[Docket No. ER03-955-000]

Take notice that on June 16, 2003, NRG Marketing Services LLC filed, under section 205 of the Federal Power Act, an application requesting that the Commission (1) accept for filing its proposed market-based FERC Rate Schedule No. 1; (2) grant blanket authority to make market-based wholesale sales of capacity and energy under the FERC Rate Schedule No. 1; (3) grant authority to sell ancillary services at market-based rates; and (4) grant such waivers and blanket authorizations as the Commission has granted in the past to other nonfranchised entities with market-based rate authority.

Comment Date: July 7, 2003.

5. Duke Energy Marketing America, LLC

[Docket No. ER03-956-000]

Take notice that on June 16, 2003, Duke Energy Marketing America, LLC (DEMA) submitted for filing a Notice of Succession, pursuant to Sections 35.16 and 131.51 of the Commission's regulations. DEMA states that Duke Energy Power Marketing, LLC (DEPM) changed its name to DEMA, accordingly DEMA is successor to DEPM's market-based rate tariff on file with the Commission and the agreements entered into thereunder.

Comment Date: July 7, 2003.

6. Emmett Power Company

[Docket No. ER03-957-000]

Take notice that on June 13, 2003, Emmett Power Company (EPC) pursuant to Section 35.15(a), 18 CFR 35.15(a), filed with the Federal Energy Regulatory Commission a Notice of Termination of EPC's market-based rate tariffs. EPC requests waiver of the Commission's prior notice requirements so that the termination may be effective June 30, 2003.

Comment Date: July 7, 2003.

7. Sierra Pacific Power Company

[Docket No. ER03-958-003]

Take notice that on June 13, 2003, Sierra Pacific Power Company (Sierra) tendered for filing an executed Interconnection and Operation Agreement between Sierra and Newmont USA Limited d/b/a Newmont Mining Corporation.

Comment Date: July 7, 2003.

8. Exelon Framingham LLC, Exelon Mystic LLC, Exelon New Boston LLC and Exelon West Medway LLC

[Docket No. ER03-959-000]

Take notice that on June 13, 2003, Exelon Framingham LLC, Exelon Mystic LLC, Exelon New Boston LLC and Exelon West Medway LLC (the “Exelon Companies”) tendered for filing preliminary fixed cost information for their respective generating facilities. This fixed cost information relates to Peaking Unit Safe Harbor Reference Levels proposed by ISO New England Inc. (ISO-NE) for use regarding New England Power Pool Market Rule 1. The Exelon Companies request an effective date of June 1, 2003. The Exelon Companies request a waiver of all applicable Commission regulations to permit such effective date.

The Exelon Companies state that they have provided a copy of this submission to ISO-NE on the date of filing. The Exelon Companies also as a courtesy have mailed a copy of this submission to each affected state regulatory authority.

Comment Date: July 7, 2003.

9. PG Power Sales Three, L.L.C., PG Power Sales One, L.L.C., PG Power Sales Two, L.L.C., PG Power Sales Ten, L.L.C., PG Power Sales Four, L.L.C., PG Power Sales Five, L.L.C., PG Power Sales Six, L.L.C., PG Power Sales Seven, L.L.C., PG Power Sales Eight, L.L.C., PG Power Sales Nine, L.L.C.

[Docket No. ER03-960-000]

Take notice that on June 16, 2003, the above Companies tendered for filing a Notice of Cancellation, pursuant to 18 CFR 35.15, of its market-based electric tariffs filed with the Commission.

The Companies state that the docket numbers and their respective Effective Dates are to be cancelled. The Companies also state that notice of the proposed cancellations, have not been served on any party because the above named Companies have not engaged in any sales of electric power or entered into any power or related contracts with any purchasers.

Comment Date: July 7, 2003.

10. PG Power Sales Twelve, L.L.C. and PG Power Sales Eleven, L.L.C.

[ER03-961-000]

Take notice that on June 16, 2003, the above Companies tendered for filing a Notice of Cancellation, pursuant to 18 CFR 35.15, of its market-based electric tariffs filed with the Commission.

Comment Date: July 7, 2003.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number field to access the document. For assistance, contact FERC Online Support at FERCOnlineSupport@ferc.gov or toll-free at (866) 208-3676, or for TTY, contact (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. 03-16052 Filed 6-24-03; 8:45 am]

BILLING CODE 6717-01-P